SMALL BUSINESS ADMINISTRATION

National Small Business Development Center Advisory Board; Public Meeting

The U.S. Small Business Administration, National Small Business Development Center Advisory Board will be hosting a public meeting via conference call to discuss such matters that may be presented by members, the staff of the U.S. Small Business Administration, and interested others. The conference call is scheduled for Tuesday, May 16, 2006 at 2 p.m. Eastern Standard Time.

The purpose of the meeting is to discuss items for their next White Paper for the AA/OSBDC, and the timeframes and logistics for a California site visit to the San Diego and Los Angeles SBDC networks.

Anyone wishing to make an oral presentation to the Board must contact Erika Fischer, Senior Program Analyst, U.S. Small Business Administration, Office of Small Business Development Centers, 409 3rd Street, SW., Washington, DC 20416, telephone (202) 205-7045 or fax (202) 481-0681.

Matthew K. Becker,
Committee Management Officer.

[FR Doc. E6-6691 Filed 5-2-06; 8:45 am]

BILLING CODE 8025-01-P